RAILROAD RETIREMENT BOARD

Agency Forms Submitted for OMB Review

SUMMARY: In accordance with the Paperwork Reduction Act of 1995 (44 U.S.C. chapter 35), the Railroad Retirement Board (RRB) has submitted the following proposal(s) for the collection of information to the Office of Management and Budget for review and approval.

Summary of Proposal(s)

(1) Collection title: Employer Service and Compensation Reports.

(2) Form(s) submitted: UI-41, UI-41a.

(3) OMB Number: 3220-0070.

(4) Expiration date of current OMB clearance: October 31, 2004.

(5) Type of request: Extension of a currently approved collection.

(6) Respondents: Business or other for-profit.

(7) Estimated annual number of respondents: 30.

(8) Total annual responses: 3,000.

(9) Total annual reporting hours: 400.

(10) Collection description: The reports obtain the employee's service and compensation for a period subsequent to those already on file and the employee's base year compensation. The information is used to determine the entitlement to and the amount of benefits payable.

FOR FURTHER INFORMATION CONTACT: Copies of the forms and supporting documents can be obtained from Charles Mierzwa, the agency clearance officer (312-751-3363) or Charles.Mierzwa@rrb.gov.

Comments regarding the information collection should be addressed to Ronald J. Hodapp, Railroad Retirement Board, 844 North Rush Street, Chicago, Illinois, 60611-2092 or Ronald.Hodapp@rrb.gov and to the OMB Desk Officer for the RRB, at the Office of Management and Budget, Room 10230, New Executive Office Building, Washington, DC 20503.

Charles Mierzwa,
Clearance Officer.

[FR Doc. 04-14892 Filed 6-30-04; 8:45 am]

BILLING CODE 7905-01-P